DEPARTMENT OF TRANSPORTATION

Office of the Secretary

Notice of Applications for Certificates of Public Convenience and Necessity and Foreign Air Carrier Permits Filed Under Subpart B (Formerly Subpart Q) during the Week Ending August 20, 2011

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0150.

Date Filed: August 15, 2011.

Due Date for Answers, Conforming Applications, or Motion To Modify Scope: September 6, 2011.

Description:

Application of Universal Jet Aviation, Inc. (“Universal”) requesting a certificate of public convenience and necessity authorizing Universal to engage in foreign charter air transportation of persons, property and mail.

Docket Number: DOT-OST-2011-0151.

Date Filed: August 15, 2011.

Due Date for Answers, Conforming Applications, or Motion To Modify Scope: September 6, 2011.

Description:

Application of Universal Jet Aviation, Inc. (“Universal”) requesting a certificate of public convenience and necessity authorizing Universal to engage in interstate charter air transportation of persons, property and mail with a Boeing Business Jet aircraft.

Docket Number: DOT-OST-2003-16308.

Date Filed: August 16, 2011.

Due Date for Answers, Conforming Applications, or Motion To Modify Scope: September 6, 2011.

Description:

Application of Grupo Aereo Monterrey, S.A. de C.V., d/b/a Magnicharters requesting a foreign air carrier permit and supplement to application for an exemption to engage in charter foreign air transportation of passengers between the United States and Mexico and to conduct other passenger charter operations in accordance with 14 CFR part 212.

Renee V. Wright,
Program Manager, Docket Operations, Federal Register Liaison.

[FR Doc. 2011-22396 Filed 8-31-11; 8:45 am]

BILLING CODE 4910-9XP